DEPARTMENT OF JUSTICE

Office of Community Oriented Policing Services; FY 2005 Community Policing Discretionary Grants

AGENCY: Office of Community Oriented Policing Services, Department of Justice.

ACTION: Notice of availability.

SUMMARY: The Department of Justice Office of Community Oriented Policing Services (COPS) announces the availability of funds over the Tribal Resources Grant Program. This program is designed to meet the most serious needs of law enforcement in Indian communities through a comprehensive grant program that will offer a variety of funding options including: New, additional police officer positions; basic and/or specialized training for sworn law enforcement officers; training in community policing, grants management and computer training; uniforms and basic issue equipment; department-wide technology; and police vehicles. This program, which complements the COPS Office's efforts to fund and support innovative community policing, will enhance law enforcement infrastructures and community policing efforts in tribal communities which have limited resources and are affected by high rates of crime and violence. Applications should reflect the department's most serious law enforcement needs and must link these needs to the implementation or enhancement of community policing.

All federally recognized tribes with established police departments are eligible to apply. Federally recognized tribes may also apply as a consortium with a written partnership agreement that names a lead agency and describes how requested resources will serve the consortium's population. In addition, tribes that are currently served by Bureau of Indian Affairs (BIA) law enforcement may request funding under this grant program to supplement their existing police services. Tribes whose law enforcement services are exclusively provided by local policing agencies through a contract agreement are not eligible under the COPS TRGP program.

DATES: Applications will be available in April 2005. Federal recognized tribes or villages that wish to apply may request an application from the COPS Office. The deadline for the submission of applications is May 31, 2005. Applications must be postmarked by May 31, 2005 to be considered eligible.

ADDRESSES: To obtain an application or for more information, call the COPS Office Response Center at 1-800-421-6770. A copy of the application kit will also be available in April on the COPS Office Web site at http://www.cops.usdoj.gov.

FOR FURTHER INFORMATION CONTACT: The COPS Office Response Center, 1-800-421-6770 and ask to speak with your Tribal Grant Program Specialist.

SUPPLEMENTARY INFORMATION:

Overview

The Violent Crime Control and Law Enforcement Act of 1994 (Pub. L. 103-322) authorizes the Department of Justice to make grants to increase deployment of law enforcement officers devoted to community policing on the streets and rural routes in this nation. The Tribal Resources Grant Program was developed to meet the most serious needs of law enforcement in tribal communities through a comprehensive grant program that will offer a variety of funding options. This program will enhance law enforcement infrastructures and community policing efforts in these tribal communities, many of which have limited resources and are affected by high rates of crime and violence.

The Tribal Resources Grant Program is part of a larger federal initiative which, over the last seven years, has resulted in the Department of Interior and Justice working in collaboration to improve law enforcement in tribal communities. Funding has been appropriated to several DOJ agencies including the FBI, the Bureau of Justice Assistance (BJA), the Office of Juvenile Justice and Delinquency Prevention (OJJDP) and the COPS Office. COPS is coordinating with these agencies as well as with the Office of Law Enforcement Services of the Bureau of Indian Affairs to ensure that limited resources are not spent on duplicative efforts.

Approximately $20 million in funding will be available under the Tribal Resources Grant Program. The grant will cover a maximum federal share of 75% of total project costs. A local match requirement of at least 25% of total project cost is included in this program. A waiver of the local match requirement may be requested but will be granted only on the basis of documented demonstrated fiscal hardship. Requests for waivers must be submitted with the application.

Tribes whose law enforcement services are exclusively provided by local policing agencies through contract arrangements are not eligible under this COPS program.

Receiving an award under the Tribal Resources Grant Program will not preclude grantees from future consideration under other COPS grant programs for which they are eligible.

The Catalog of Federal Domestic Assistance (CFDA) reference for this program is 16.710.

Dated: April 17, 2005.
Carl Peed,
Director.

[FR Doc. 05-8239 Filed 4-25-05; 8:45 am]

BILLING CODE 4410-AT-M